FEDERAL COMMUNICATIONS COMMISSION

47 CFR Part 73

[DA 04-2461; MB Docket No. 04-300, RM-11022; MB Docket No. 04-301, RM-10969; MB Docket No. 04-302, RM-11020; MB Docket No. 04-303, RM-11025; MB Docket No. 04-304, RM-11021; MB Docket No. 04-305, RM-10980; MB Docket No. 04-306, RM-10754; MB Docket No. 04-307, RM-10982; MB Docket No. 04-308, RM-10973; MB Docket No. 04-309, RM-10974]

Radio Broadcasting Services; Fruita, CO, Kerman, CA, Lockney, TX, Lone Wolf, OK, Quanah, TX, Oak Harbor, WA, Orchard Mesa, CO, Rising Star, TX, Twenty-nine Palms, CA, Waterford, CA

AGENCY: Federal Communications Commission.

ACTION: Proposed rule.

SUMMARY: This document proposes ten new allotments in Fruita, Colorado, Kerman, California, Lockney, Texas, Lone Wolf, Oklahoma, Quanah, Texas, Oak Harbor, Washington, Orchard Mesa, Colorado, Rising Star, Texas, Twentynine Palms, California, Waterford, California. The Audio Division requests comment on a petition filed by Dana J. Puopolo proposing the allotment of Channel 255C3 at Fruita, Colorado, as the community's second local aural transmission service. Channel 255C3 can be allotted to Fruita in compliance with the Commission's minimum distance separation requirements with a site restriction of 14 kilometers (8.7 miles) northeast to avoid a short-spacing to the vacant allotment site of Channel 253C3 at Palisade, Colorado. The reference coordinates for Channel 255C3 at Fruita are 39-15-05 North Latitude and 108-50-16 West Longitude. See Supplementary Information, infra.

DATES: Comments must be filed on or before September 30, 2004, and reply comments on or before October 15, 2004.

ADDRESSES: Federal Communications Commission, 445 Twelfth Street, SW., Washington, DC 20554. In addition to filing comments with the FCC, interested parties should serve the petitioner, his counsel, or consultant, as follows: Dana J. Puopolo, 2134 Oak Street, Unit C, Santa Monica, California 90405; Linda A. Davidson, 2134 Oak Street, Unit C, Santa Monica, California 90405 and Charles Crawford, 4553 Bordeaux Avenue, Dallas, TX 75205.

FOR FURTHER INFORMATION CONTACT: Rolanda F. Smith, Media Bureau, (202) 418-2180.

SUPPLEMENTARY INFORMATION: This is a synopsis of the Commission's Notice of Proposed Rule Making, MB Docket Nos. 04-300, 04-301, 04-302, 04-303, 04-304, 04-305, 04-306, 04-307, 04-308, 04-309, adopted August 4, 2004 and released August 9, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com.

The Audio Division requests comments on a petition filed by Linda A. Davidson proposing the allotment of Channel 224A at Kerman, California, as the community's third local aural transmission service. Channel 224A can be allotted to Kerman in compliance with the Commission's minimum distance separation requirements with a site restriction of 13.8 kilometers (8.6 miles) west to avoid a short-spacing to the license sites of FM Station KZFO, Channel 224B, Clovis, California and FM Station KMJO, Channel 224B1, Marina, California. The reference coordinates for Channel 224A at Kerman are 36-40-37 North Latitude and 120-12-08 West Longitude.

The Audio Division requests comments on a petition filed by Charles Crawford proposing the allotment of Channel 271C2 at Lockney, Texas, as the community's first local aural transmission service. Channel 271C2 can be allotted to Lockney in compliance with the Commission's minimum distance separation requirements with a site restriction of 6.7 kilometers (4.2 miles) southeast to avoid a short-spacing to the vacant allotment site of Channel 269A at Turkey, Texas and the license site of FM Station KATP, Channel 270C1, Amarillo, Texas and Station KZII-FM, Channel 273C3, Clovis, New Mexico. The reference coordinates for Channel 271C3 at Lockney are 34-05-00 North Latitude and 101-23-15 West Longitude.

The Audio Division requests comment on a petition filed by Charles Crawford proposing the allotment of Channel 224A at Lone Wolf, Oklahoma, as the community's first local aural transmission service. Channel 224A can be allotted to Lone Wolf in compliance with the Commission's minimum distance separation requirements with a site restriction of 7.8 kilometers (4.8 miles) east to avoid a short-spacing to the license sites of Station KOMA-FM, Channel 223C, Oklahoma, Oklahoma, Station KNIN-FM, Channel 225C1, Wichita Falls, Texas and FM Station KBKH, Channel 225C2, Shamrock, Texas. The reference coordinates for Channel 224A at Lone Wolf are 34-58-53 North Latitude and 99-09-53 West Longitude.

The Audio Division requests comment on a petition filed by Charles Crawford proposing the allotment of Channel 255C3 at Quanah, Texas, as the community's second local aural transmission service. Channel 255C3 can be allotted to Quanah in compliance with the Commission's minimum distance separation requirements with a site restriction of 14.9 kilometers (9.3 miles) south to avoid a short-spacing to the vacant allotment site of Channel 254A at Seymour, Texas and the license site of FM Station KRIJ, Channel 253C, Elk City, Oklahoma. The reference coordinates for Channel 255C3 at Quanah are 34-10-04 North Latitude and 99-46-49 West Longitude.

The Audio Division requests comment on a petition filed by Dana J. Puopolo proposing the allotment of Channel 289A at Oak Harbor, Washington, as the community's first local aural transmission service. Channel 289A can be allotted to Oak Harbor in compliance with the Commission's minimum distance separation requirements at city reference coordinates. The reference coordinates for Channel 289A at Oak Harbor are 48-17-36 North Latitude and 122-38-31 West Longitude.

The Audio Division requests comment on a petition filed by Dana J. Puopolo proposing the allotment of Channel 249C3 at Orchard Mesa, as the community's first local aural transmission service. Channel 249C3 can be allotted to Orchard Mesa in compliance with the Commission's minimum distance separation requirements with a site restriction of 5.8 kilometers (3.6 miles) northwest to avoid a short-spacing to the vacant allotment site of Channel 249C3 at Aspen, Colorado. The reference coordinates for Channel 249C3 at Orchard Mesa are 39-04-47 North Latitude and 108-36-00 West Longitude.

The Audio Division requests comment on a petition filed by Charles Crawford proposing the allotment of Channel 290C3 at Rising Star, Texas, as the community's first local aural transmission service. Channel 290C3 can be allotted to Rising Star in compliance with the Commission's minimum distance separation requirements at city reference coordinates. The reference coordinates for Channel 290C3 at Rising Star are 32-05-54 North Latitude and 98-58-00 West Longitude.

The Audio Division requests comment on a petition filed by Dana J. Puopolo proposing the allotment of Channel 270A at Twentynine Palms, California, as the community's third local aural transmission service. Channel 270A can be allotted to Twentynine Palms in compliance with the Commission's minimum distance separation requirements with a site restriction of 3.5 kilometers (2.2 miles) north to avoid a short-spacing to the license site of FM Station KWID, Channel 270C, Las Vegas, Nevada and Mexican Station XHPF-FM, Channel 270B, Mexicali, BN. Mexican concurrence has been requested since Twentynine Palms is located within 320 kilometers (199 miles) of the US-Mexican border. The reference coordinates for Channel 270A at Twentynine Palms are 34-09-41 North Latitude and 116-03-47 West Longitude.

The Audio Division requests comment on a petition filed by Linda A. Davidson proposing the allotment of Channel 294A at Waterford, California, as the community's first local aural transmission service. Channel 294A can be allotted to Waterford in compliance with the Commission's minimum distance separation requirements with a site restriction of 11.1 kilometers (6.9 miles) east to avoid a short-spacing to the license site of FM Station KEZR, Channel 293B, San Jose,California. The reference coordinates for Channel 294A at Waterford are 37-40-21 North Latitude and 120-38-26 West Longitude.

Provisions of the Regulatory Flexibility Act of l980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 224A at Kerman, by adding Channel 270A at Twentynine Palms, and by adding Waterford, Channel 294A.

3. Section 73.202(b), the Table of FM Allotments under Colorado, is amended by adding Channel 255C3 at Fruita and by adding Orchard Mesa, Channel 249C3.

4. Section 73.202(b), the Table of FM Allotments under Oklahoma, is amended by adding Lone Wolf, Channel 224A.

5. Section 73.202(b), the Table of FM Allotments under Texas, is amended by adding Lockney, Channel 271C3, by adding Channel 255C3 at Quanah, and by adding Rising Star, Channel 290C3.

6. Section 73.202(b), the Table of FM Allotments under Washington, is amended by adding Oak Harbor, Channel 289A.

Federal Communications Commission.
John A. Karousos,
Assistant Chief, Audio Division, Media Bureau.

[FR Doc. 04-18830 Filed 8-16-04; 8:45 am]

BILLING CODE 6712-01-P